MORRIS K. UDALL SCHOLARSHIP AND EXCELLENCE IN NATIONAL ENVIRONMENTAL POLICY FOUNDATION

The United States Institute for Environmental Conflict Resolution; Agency Information Collection Activities; Proposed Collection; Comment Request; U.S. Institute for Environmental Conflict Resolution Application for the National Roster of Dispute Resolution and Consensus Building Professionals: Sub-Roster of Transportation Mediators & Facilitators

AGENCY: Morris K. Udall Scholarship and Excellence in National Environmental Policy Foundation, U.S. Institute for Environmental Conflict Resolution.

ACTION: Notice.

SUMMARY: In compliance with the Paperwork Reduction Act and supporting regulations, this document announces that the U.S. Institute for Environmental Conflict Resolution (the Institute), part of the Morris K. Udall Foundation, is planning to submit the following proposed Information Collection Request (ICR) to the Office of Management and Budget (OMB): National Roster of Environmental Dispute Resolution and Consensus Building Professionals: Sub-Roster of Transportation Mediators & Facilitators. Before submitting the ICR to OMB for review and approval, the Institute is soliciting comments regarding the proposed information collection (see the section C. below entitled Questions to Consider in Making Comments.) This document provides information on the need for the Sub-Roster of Transportation Mediators & Facilitators, the information to be recorded in the sub-roster, and the entry criteria for applicants who wish to be listed. The sub-roster application will not be available until all Paperwork Reduction Act requirements are met.

DATES: Comments must be submitted on or before April 2, 2001.

ADDRESSES: Direct comments and requests for information, including copies of the proposed ICR to: Joan C. Calcagno, Roster Manager, U.S. Institute for Environmental Conflict Resolution, 110 South Church Avenue, Suite 3350, Tucson, Arizona 85701, Fax: 520-670-5530, Phone: 520-670-5299, E-mail: roster@ecr.gov.

FOR FURTHER INFORMATION CONTACT: Joan C. Calcagno, Roster Manager, U.S. Institute for Environmental Conflict Resolution, 110 South Church Avenue, Suite 3350, Tucson, Arizona 85701, Fax: 520-670-5530, Phone: 520-670-5299, E-mail: roster@ecr.gov.

SUPPLEMENTARY INFORMATION:

A. Title for the Collection of Information

Application for National Roster of Environmental Dispute Resolution and Consensus Building Professionals: Sub-Roster of Transportation Mediators & Facilitators.

B. Potentially Affected Persons

You are potentially affected by this action if you are a dispute resolution professional with experience related to environmental reviews of transportation projects and you wish to be listed on the National Roster of Environmental Dispute Resolution and Consensus Building Professionals: Sub-Roster of Transportation Mediators & Facilitators.

C. Questions To Consider in Making Comments

The U.S. Institute for Environmental Conflict Resolution requests your comments to any of the following questions related to collecting information for the Sub-Roster of Transportation Mediators & Facilitators:

(1) Is the proposed sub-roster application (“collection of information”) necessary for the proper performance of the functions of the agency, including whether the information will have practical utility?

(2) Is the agency's estimate of the time spent completing the application (“burden of the proposed collection of information”) accurate, including the validity of the methodology and assumptions used?

(3) Can you suggest ways to enhance the quality, utility, and clarity of the information collected?

(4) Can you suggest ways to minimize the burden of the collection of information on those who are to respond, including through the use of appropriate automated electronic, mechanical, or other technological collection techniques or other forms of information technology?

D. Abstract

The U.S. Institute for Environmental Conflict Resolution plans to collect information from environmental dispute resolution professionals with experience in transportation cases who desire to become members of a roster of neutrals from which agencies may select providers of neutral services. The proposed transportation roster is being established as part of the U.S. Department of Transportation's Guidance on Dispute Resolution, to provide resources for neutral assistance in connection with environmental reviews of transportation projects.

Responses to the collection of information (the application) are voluntary, but required to obtain a benefit (listing on the Sub-Roster of Transportation Mediators & Facilitators.) An agency may not conduct or sponsor, and a person is not required to respond to, a collection of information unless it displays a currently valid OMB control number.

Background Information: U.S. Institute for Environmental Conflict Resolution

The U.S. Institute for Environmental Conflict Resolution was created in 1998 by the Environmental Policy and Conflict Resolution Act (P.L. 105-156). The Institute is located in Tucson, Arizona and is part of the Morris K. Udall Foundation, an independent agency of the executive branch of the federal government. The Institute's primary purpose is to provide impartial, non-partisan assistance to federal and non-federal parties. The Institute provides assistance in seeking agreement or resolving disputes through use of mediation and other collaborative, non-adversarial means regarding environmental, natural resources, and public lands issues involving a federal interest. The Institute accomplishes most of its work by partnering or contracting with, or referral to, experienced practitioners.

The Need for and Proposed Use of the Information Collected in the Application for the Sub-Roster of Transportation Mediators and Facilitators

The environmental streamlining section of the Transportation Equity Act for the 21st Century (TEA-21) (Public Law 105-178, as amended 105-206) was created by Congress in response to undue delays in completing transportation projects and directs federal agencies to coordinate environmental reviews of transportation projects. Many of the delays were a result of unresolved disputes among agencies in the review process. Thus, a key part of environmental streamlining is managing conflict when it develops. Through discussions with federal and state transportation and environmental agencies, the Federal Highway Administration (FHWA) (an agency in the U.S. Department of Transportation) identified the need for an efficient, effective alternative dispute resolution (ADR) system. The FHWA contracted with the Institute to provide assistance in designing and implementing an ADR system. The system has been designed to prevent and resolve disputes among federal and state transportation, natural resource, and environmental regulatory agencies. It is designed to address conflicts over specific issues that arise under the National Environmental Policy Act (NEPA) process, that is, the preparation of Environmental Assessments or Environmental Impact Statements for specific projects, or determining whether Categorical Exemptions apply. It also applies to reviews for potential impacts on historical and archeological resources, and to reviews associated with permits that some projects require, such as dredge and fill permits from the Army Corps of Engineers (under Section 404 of the Clean Water Act).

The Sub-Roster of Transportation Mediators & Facilitators (“sub-roster”) is part of the ADR system. Interviews with numerous federal and state agency representatives, who are potential users of the system, identified the need for professional third-party assistance. The sub-roster provides agencies with one source from which to find experienced neutrals to facilitate negotiations and to help resolve disputes. Agency personnel will use the sub-roster primarily to find facilitators or mediators experienced in preventing and resolving disputes that arise during environmental reviews of transportation projects. Agencies may also look to the sub-roster for such services as conflict assessment, process design, or related professional advice in these same issues.

In order for the sub-roster to be an efficient and effective part of the environmental streamlining ADR system, it must provide agency personnel seeking assistance specific information related to the third-party neutral's experience with environmental reviews of transportation projects. The Institute operates the National Roster of Environmental Dispute Resolution and Consensus Building Professionals (“roster”), which has existed since February 2000. (The roster application is open and continuous and available on Institute's website: www.ecr.gov.) Sub-roster applications will be submitted by those practitioners who are already, or will become, members of the roster. The information already collected through the roster application process is not specific enough to allow all roster members with this particular experience to be identified. Collection of specific information relating to transportation experience will expedite the identification of appropriate neutrals.

The sub-roster information, instructions and application will be available from the Institute's website as a PDF document. The application gathers the information necessary to determine whether the applicant meets the entry criteria and gathers some additional information important to selecting appropriate practitioner candidates for the particular situation. Information will be entered on the application online, similarly to common computerized word processing. It will then be printed out and mailed in. The applicant can also save the application electronically for purposes of updating or revision. Hardcopy applications will be available by request to the Institute. Sub-roster members names and locations will be tracked and searchable in an electronic database maintained by the Institute. Agencies will be able to request assistance in identifying appropriate practitioners by contacting the Institute Roster Manager.

Draft Sub-Roster Application

The draft application is attached. The format of the draft application will be modified to use fonts, spacing and formatting for optimum electronic use.

E. Burden Statement

This ICR compiles data available from the resumes of most mediators and facilitators with experience in environmental reviews of transportation projects into a format that is standardized and easily accessible for use in making referrals. The application will be submitted only by members of the National Roster of Environmental Dispute Resolution and Consensus Building Professionals, who will have familiarity with providing this type of information as a result of applying for membership; the roster application is filled out and submitted online and is more detailed. Sub-roster applicants will need to complete the sub-roster application only once. They will be able to update their information on a voluntary basis. The burden includes time spent to: (1) Review the entry criteria, definitions, instructions and application; (2) access current (within the last ten years) information about their experience with environmental reviews of transportation projects; and (3) enter the information on the form, print it and mail it.

Likely Respondents: Current and future members of the National Roster of Environmental Dispute Resolution and Consensus Building Professionals.

Estimated Number of Respondents (first year): 80.

Estimated Number of New Respondents (per year for succeeding year): 10.

Proposed Frequency of Response: one, with voluntary update.

Respondent Time Burden Estimates:

Estimate Time per Response: 140 minutes.

Estimated Number of Updates (per year): 1, for half of the respondents.

Estimated Time for Update: 15 minutes.

Estimated Total First Year Burden: 11200 minutes.

Estimated Total Subsequent Year Annual Burden: 1400 minutes, new respondents + 675 minutes, updates.

Respondent Cost Burden Estimates (at $150. per hour):

No capital or start-up costs (respondents will use the same computer equipment to access the sub-roster application as was used for their National Roster of ECR Practitioner application or respondents can request an application by phone or mail; applications are submitted through US Postal Service)

Estimated Cost per Respondent (first year): $345.

Estimated Cost per Respondent (subsequent year): $38.

Estimated Total First Year Burden: $27,990.

Estimated Total Subsequent Year annual Burden: $3,500, new respondents; $1,688, updates.

Burden means the total time, effort, or financial resources expended by persons to generate, maintain, retain, or disclose or provide information to or for a Federal agency. This includes the time needed to review instructions; develop, acquire, install, and utilize technology and systems for the purpose of collecting, validating, and verifying information, processing and maintaining information, and disclosing and providing information and transmitting information.

(Authority: 20 USC Sec. 5601-5609).

Dated the 16th day of January, 2001.
Christopher L. Helms,
Executive Director, Morris K. Udall Foundation.

U.S. Institute for Environmental Conflict Resolution

National Roster of Environmental Dispute Resolution and Consensus Building Professionals; Sub-Roster of Transportation Mediators & Facilitators Instructions & Application

Sub-Roster Entry Criteria

1. Membership on the National Roster of Environmental Dispute Resolution and Consensus Building Professionals

2. Participation as a Principal Professional in two Transportation Cases within the last ten years

or

Participation as a Principal Professional in one Transportation Case within the last ten years

and

one-year full time equivalent experience within the last ten years: working for, or as a consultant to, a transportation agency, an environmental resource agency or an environmental regulatory agency in a position with responsibility for environmental reviews of transportation projects

or

providing legal advice or representation to parties in cases involving environmental reviews of transportation projects

Please Note

• “Membership on the National Roster of Environmental Dispute Resolution and Consensus Building Professionals” in criteria (1.) means you have submitted an application to the roster and been notified of approval.

• The italicized terms in the entry criteria have specific definitions. The definitions are included below.

• Principal Professional incorporates the definition of Environmental Dispute Resolution and Consensus Building Professional, which requires that you only count cases in which you were a “third party neutral engaged to assist all parties * * *” in various collaborative processes. Do not include cases in which you acted as a: representative of or negotiator for a party, presiding judge, hearing officer, or arbitrator.

• A Case requires at least 20 hours of your activity. Case Hours is specifically defined.

• Only cases within the last ten years and on going cases can be included.

• A transportation case could involve the affected agencies (inter-agency), just one agency (intra-agency), or all stakeholders. Listing inter-agency cases is preferred.

• You may count as a transportation case, a case you included in the Qualifying Case section of your roster application, but you must include the information about the case as requested in the sub-roster application.

• “One year full time experience in the last ten years” means that the experience does not necessarily have to have been gained during one calendar year and could be spread over the last ten years.

Definitions

Case. Involves an actual or potential dispute or lack of agreement on one or more issues in controversy. A case may also be described as a process of building agreement, recommendations, or advice on actual or potential issues in controversy as well as facilitating collaborative processes among multiple parties on actual or potential issues in controversy. Systems design and evaluation work would also be included. A case must have engaged the environmental dispute resolution and consensus building professional for more than 20 case hours.

Transportation case. A case involving (1) environmental review of a specific transportation project or (2) a case involving “up-front” collaborative efforts at the planning stage among transportation, environmental resource and environmental regulatory agencies or (3) the design of processes to manage conflict and resolve disputes relating to environmental review of transportation projects.

Environmental review. Review of transportation projects for environmental, archeological, or historical impacts (e.g., reviews associated with the National Environmental Policy Act (NEPA) process; permits under Section 404 of the Clean Water Act; U.S. Fish and Wildlife Service and National Marine Fisheries Service consultations under the Endangered Species Act; U.S. Environmental Protection Agency project approvals; historical and archeological reviews associated with Section 4(f) of the U.S. DOT Act of 1966 and Section 106 of the National Historic Preservation Act and related regulations; or similar state requirements.)

Transportation project. A surface (highway and/or transit) or air transportation project.

Transportation agency. Local, state, or federal transportation agency.

Environmental resource agency and/or Environmental regulatory agency. Agencies charged with planning for and managing natural historical, or archeological resources; issuing and enforcing environmental regulations; conducting environmental reviews. For example: a state department of game and fish or natural resource agency, U.S. Environmental Protection Agency, U.S. Fish and Wildlife Service, U.S. Forest Service, National Marine Fisheries Service, Bureau of Land Management, Army Corps of Engineers, U.S. Coast Guard, National Advisory Council on Historic Preservation.

Case hours. Actual contact time with the parties as individuals or a group, plus time spent in conduct of all phases of the process, or evaluating or reporting on the process. This does not include hours spent prior to professional engagement in the project.

Environmental dispute resolution and consensus building professional. Any third party neutral engaged to assist all parties in the prevention, management, or resolution of disputes or controversy. The environmental dispute resolution and consensus building professional shall have expertise in one or more of the following processes: facilitation, mediation, consensus building, neutral evaluation/fact finding, settlement judge, conflict assessment, process design, or dispute systems design.

Principal professional. An environmental dispute resolution and consensus building professional (see above) who has been engaged to serve as the lead in a case. A principal professional includes serving as a co-mediator or other such circumstance where duties and responsibilities are shared equally as peers.

Saving the Application for Your Records and Revision (To Be Added)

Submitting Your Application

The application pages will provide information for determining compliance with the entry criteria and will be sent to those seeking referrals. Thus you must supply information that reflects a match with entry criteria and you have the opportunity to supply additional information to users. The reference page is for Institute use only.

Please fill out the application pages and the reference page online. Print these pages. Mail, do not fax, these pages only to: Joan C. Calcagno, Roster Manager, U.S. Institute for Environmental Conflict Resolution, 110 South Church Avenue, Suite 3350, Tucson, Arizona 85701; and for assistance, questions or hardcopy application: 520-670-5299 Ext. 19 roster @ecr.gov

Conditions for Listing

In submitting your application for the Sub-Roster of Transportation Mediators & Facilitators, you agree to abide by the same Terms and Conditions agreement that applies to your roster membership (see the last page of your roster application) and the same.

Certification: I certify that all information submitted by me on this application is correct to the best of my knowledge. I wish to be listed on the Sub-Roster of Transportation Mediators & Facilitators if found to meet the qualifications for inclusion. Moreover, I have read, understand and agree to abide by all terms set forth in the Conditions of Listing Agreement, referred to above, as a condition for listing on the sub-roster. I further understand that false certification may subject me to civil or criminal penalties as prescribed in 18 U.S.C. 1001. I also understand that all information provided by me on this application is public record. In my application, I certify that I am not currently debarred, suspended, proposed for debarment or suspension, nor have I been declared ineligible for the award of contracts by any Federal agency.

Application Instructions

Item 1. Transportation Case Information: In the spaces provided, enter the requested information on up to two Transportation Cases in which you were the Principal Professional and which took place in the last ten years. Indicate your primary Alternative Dispute Resolution/Environmental Conflict Resolution role. Enter the estimated number of case hours (to date, if the case is on going), the number of parties or represented interests involved, and the type of transportation project. Provide a detailed description of the case including the environmental review process involved, your activities, and the outcomes.

Item 2. Professional Transportation Experience: In the spaces provided, enter information on your paid job experience working for a transportation agency, environmental resource agency, or environmental regulatory agency, or your experience as a consultant to such agencies. Include only work or consulting experience in which you had responsibility for environmental reviews of transportation projects. And/or enter information about your experience providing legal advice or representation to parties in cases involving environmental reviews of transportation projects.

Item 3. Summary Numbers: In the space provided, enter the total number of Transportation Cases in which you participated as Principal Professional in the last 10 years and the average number of case hours.

Item 4. Summary Narrative: In the space provided, enter a narrative description of the body of your experience with transportation cases, issues, and processes, particularly experience with developing timelines for transportation projects, with “404/NEPA merger” processes, or with resolving interagency disputes.

References: For each case, provide one reference. Please provide one reference for your Professional Transportation Experience, if applicable.

References

For each case, provide one reference. Please provide name, title, and address and phone number, including area code.

Case name:

Reference Name:

Title:

Address:

Phone Number:

Case name:

Reference Name:

Title:

Address:

Phone Number:

Please provide one reference for your Professional Transportation Experience, if applicable. Please include name, title, transportation or environmental agency, address, phone number.

Work Reference Name:

Title:

Transportation/Environmental Agency:

Address:

Phone Number:

Note: The reference information is for Institute use only and will not be available to other parties.

U.S. Institute for Environmental Conflict Resolution Sub-Roster of Transportation Mediators and Facilitators

Name:

City and State:

Highlights of Transportation Case Experience

Transportation Case Name:

Primary Role:

Month and year of completion or on going:

Estimated Number of case hours:

Number of Parties or represented interests:

Parties/entities:

Type of Transportation project (highway, transit, air):

Case Description:

Transportation Case Name:

Primary Role:

Month and year of completion or on going:

Estimated Number of case hours:

Number of Parties or represented interests:

Parties/entities:

Type of Transportation project (highway, transit, air):

Case Description:

Transportation Work Experience

Organization:

Full or Part time:

Occupation, position or title:

Month and year worked from and to:

Description of primary responsibility/involvement:

The total number of Transportation Cases as a Principal Professional in the last ten years: ___

The average number of case hours:___

Narrative Description of experience with transportation cases, issues and/or processes:

[FR Doc. 01-1764 Filed 1-30-01; 8:45 am]

BILLING CODE 6820-FN-M